DEPARTMENT OF AGRICULTURE

Office of the Secretary

Notice of Request for Extension and Revision of a Currently Approved Information Collection

AGENCY: Office of the Secretary, USDA.

ACTION: Notice and request for comments.

SUMMARY: In accordance with the Paperwork Reduction Act of 1995 (44 U.S.C. Chapter 35, as amended), this notice announces the White House Liaison's intention to request approval from the Office of Management and Budget for an extension and revision of a currently approved information collection for Advisory Committee and Research and Promotion Board Membership Background Information (AD-755).

DATES: Comments on this notice must be received by January 6, 2009 to be assured of consideration.

Additional Information or Comments: Address all comments concerning this notice to the Office of the White House Liaison, U.S. Department of Agriculture, 1400 Independence Ave., SW., Whitten Building, Room 219-A, Washington, DC 20250.

SUPPLEMENTARY INFORMATION: Title: Advisory Committee and Research and Promotion Board Membership Background Information.

OMB Number: 0505-0001.

Expiration Date of Approval: March 30, 2009.

Type of Request: Extension and revision of a currently approved information collection.

Abstract: The primary objective for the use of the AD-755 form is to determine the qualification, suitability and availability of a candidate to serve on advisory committees and/or research and promotion boards. The information will be used to both conduct background clearances and to compile annual reports on advisory committees.

Estimate of Burden: Public reporting burden for this collection of information is estimated to average 30 minutes per response.

Respondents: Individuals or households.

Estimated Number of Respondents: 1684.

Estimated Number of Responses per Respondent: 1.

Estimated Total Annual Burden on Respondents: 842.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to the Office of the White House Liaison, U.S. Department of Agriculture, 1400 Independence Ave., SW., Whitten Building, Room 219-A, Washington, DC 20250. All comments received will be available for public inspection during regular business hours at the same address.

All responses to this notice will be summarized and included in the request for OMB approval. All comments will become a matter of public record.

Edward T. Schafer,
Secretary of Agriculture.

[FR Doc. E8-26600 Filed 11-6-08; 8:45 am]

BILLING CODE 3410-02-P